DEPARTMENT OF COMMERCE

National Oceanic and Atmospheric Administration

[I.D. 122005A]

50 CFR Part 660

Pacific Fishery Management Council; Public Meetings and Hearings

AGENCY: National Marine Fisheries Service (NMFS), National

Oceanic and Atmospheric Administration (NOAA), Commerce.

ACTION: Notice of availability of reports; public meetings, and hearings.

SUMMARY: The Pacific Fishery Management Council (Council) has begun its annual preseason management process for the 2006 ocean salmon fisheries. This document announces the availability of Council documents as well as the dates and locations of Council meetings and public hearings comprising the Council's complete schedule of events for determining the annual proposed and final modifications to ocean salmon fishery management measures. The agendas for the March and April Council meetings will be published in subsequent Federal Register documents prior to the actual meetings.

DATES: Written comments on the salmon management options must be received by March 28, 2006, at 4:30 p.m. Pacific Time.

ADDRESSES: Documents will be available from and written comments should be sent to Mr. Donald Hansen, Chairman, Pacific Fishery Management Council, 7700 NE Ambassador Place, Suite 200, Portland, OR 97220-1384, telephone: 503-820-2280 (voice) or 503-820-2299 (fax). Comments can also be submitted via e-mail at PFMC.comments@noaa.gov address, or through the internet at the Federal eRulemaking Portal: http://www.regulations.gov. Follow the instructions for submitting comments, and include the I.D. number in the subject line of the message. For specific meeting and hearing locations, see supplementary information.

Council Address: Pacific Fishery Management Council, 7700 NE Ambassador Place, Suite 200, Portland, OR 97220.

FOR FURTHER INFORMATION CONTACT: Mr. Chuck Tracy, telephone: 503-820-2280.

SUPPLEMENTARY INFORMATION:

Schedule for Document Completion and Availability

February 28, 2005: “Review of 2005 Ocean Salmon Fisheries” and “Preseason Report I-Stock Abundance Analysis for 2006 Ocean Salmon Fisheries” will be available to the public from the Council office and posted on the Council website at http://www.pcouncil.org.

March 21, 2006: “Preseason Report II-Analysis of Proposed Regulatory Options for 2006 Ocean Salmon Fisheries” and public hearing schedule will be mailed to the public and posted on the Council website at http://www.pcouncil.org. The report will include a description of the adopted salmon management options and a summary of their biological and economic impacts.

April 21, 2006: Council adopted ocean salmon fishing management measures will be posted on the Council website at http://www.pcouncil.org.

May 1, 2006: Federal regulations will be implemented and “Preseason Report III-Analysis of Council-Adopted Ocean Salmon Management Measures for 2006 Ocean Salmon Fisheries” will be available from the Council office and posted on the Council web site at http://www.pcouncil.org.

Meetings and Hearings

January 17-20, 2006: The Salmon Technical Team (STT) will meet at the Council office in a public work session to draft “Review of 2005 Ocean Salmon Fisheries” and to consider any other estimation or methodology issues pertinent to the 2006 ocean salmon fisheries.

February 7-10, 2006: The STT will meet at the Council office in a public work session to draft “Preseason Report I-Stock Abundance Analysis for 2006 Ocean Salmon Fisheries” and to consider any other estimation or methodology issues pertinent to the 2006 ocean salmon fisheries.

March 5-10, 2006: The Council and advisory entities will meet at the Seattle Marriott Hotel, Sea Tac, 3201 S. 176th Street, Seattle, WA 98188 Phone: 206-241-2000, to adopt the 2006 salmon management options for public review.

March 27-28, 2006: Public hearings will be held to receive comments on the proposed ocean salmon fishery management options adopted by the Council. All public hearings begin at 7 p.m. at the following locations:

March 27, 2006: Chateau Westport, Beach Room, 710 W Hancock, Westport, WA 98595, telephone 360-268-9101.

March 27, 2006: Red Lion Hotel, South Umpqua Room, 1313 N Bayshore Drive, Coos Bay, OR 97420, telephone 541-267-4141.

March 28, 2006: Flamingo Hotel, Flamingo Ballroom, 2777 Fourth Street, Santa Rosa, CA 95405, telephone 707-545-8530.

April 3-7, 2006: Council and advisory entities meet at the Doubletree Hotel Sacramento, 2001 Point West Way, Sacramento, CA 95815, Phone: 916-929-8855, to adopt 2006 management measures for implementation by NMFS.

April 4, 2006: Testimony on the management options is taken during the Council meeting at the Doubletree Hotel Sacramento, Sacramento, CA.

Although non emergency issues not contained in the STT meeting agendas may come before the STT for discussion, those issues may not be the subject of formal STT action during these meetings. STT action will be restricted to those issues specifically listed in this document and to any issues arising after publication of this document requiring emergency action under section 305(c) of the Magnuson-Stevens Fishery Conservation and Management Act, provided the public has been notified of the STT's intent to take final action to address the emergency.

Special Accommodations

The meetings are physically accessible to people with disabilities. Requests for sign language interpretation or other auxiliary aids should be directed to Ms. Carolyn Porter at 503-820-2280 (voice), or 503-820-2299 (fax) at least five days prior to the meeting date.

Authority: 16 U.S.C. 1801 et. seq.

Dated: December 22, 2005.
Alan D. Risenhoover
Acting Director, Office of Sustainable Fisheries, National Marine Fisheries Service.

[FR Doc. E5-7988 Filed 12-27-05; 8:45 am]

BILLING CODE 3510-22-S